ENVIRONMENTAL PROTECTION AGENCY

[EPA-HQ-OAR-2003-0225; FRL-8498-9]

Agency Information Collection Activities; Submission to OMB for Review and Approval; Comment Request; Populations, Usage and Emissions of Diesel Nonroad Equipment (Renewal); EPA ICR No. 2156.02, OMB Control No. 2060-0553

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before December 28, 2007.

ADDRESSES: Submit your comments, referencing Docket ID No. EPA-HQ-OAR-2003-0225, to (1) EPA online using www.regulations.gov (our preferred method), by e-mail to a-and-r-Docket@epa.gov or by mail to: EPA Docket Center, Environmental Protection Agency, Air and Radiation Docket and Information Center, Environmental Protection Agency, Mailcode: 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: James Warila, Office of Transportation and Air Quality, Assessment and Standards Division, (ASD), Environmental Protection Agency, 2000 Traverwood Drive, Ann Arbor, Michigan 48105; telephone number: 734-214-4951; fax number: 734-214-4821; email address: warila.james@epa.gov.

SUPPLEMENTARY INFORMATION: EPA has submitted the following ICR to OMB for review and approval according to the procedures prescribed in 5 CFR 1320.12. On August 9, 2007 (72 FR 44843), EPA sought comments on this ICR pursuant to 5 CFR 1320.8(d). EPA received one comment during the comment period, which is addressed in the ICR. Any additional comments on this ICR should be submitted to EPA and OMB within 30 days of this notice.

EPA has established a public docket for this ICR under Docket ID No. EPA-HQ-OAR-2003-0225, which is available for online viewing at www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Populations, Usage and Emissions of Diesel Nonroad Equipment (Renewal).

ICR numbers: EPA ICR No. 2156.02, OMB Control No. 2060-0553.

ICR Status: This ICR is scheduled to expire on November 30, 2007. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: In response to recommendations from the National Research Council of the National Academy of Sciences, EPA is continuing a systematic data collection designed to improve the methods and tools used by the Agency to estimate emissions from nonroad equipment. Data to be collected include populations, usage rates (activity) and “in-use” or “real-world” emission rates.

The collection is a survey, to be conducted by the Office of Transportation and Air Quality (OTAQ) in the Office of Air and Radiation (OAR). Development of rapid in-use instrumentation promises to substantially reduce the cost of emissions measurement for nonroad equipment. This study will combine rapid in-use measurement capability with statistical survey design to improve the representation of nonroad engine populations. The goal is to continue a pilot survey designed to develop methods and protocols needed to collect data on populations, activity and in-use emissions of diesel nonroad equipment. Response to the survey is voluntary.

The target population includes nonroad equipment used by commercial establishments in the construction and manufacturing sectors. The study area for this collection will include areas in EPA Regions 5 and 7. To estimate the prevalence of equipment ownership in the target sectors, establishments will be requested to respond to brief interviews regarding their equipment ownership and use. The total sample size for instrumented measurement is 100 equipment pieces, with 50 pieces targeted for emissions and usage measurement, respectively.

Emissions and usage will be measured using portable on-board electronic instrumentation. Emissions instrumentation will measure carbon dioxide (CO2) and several air pollutants on an instantaneous basis during normal operation over a period of one to three days. Air pollutants to be measured include carbon monoxide (CO), total hydrocarbons (THC), oxides of nitrogen (NOx) and particulate matter (PM). The usage instrument will measure engine on/off over a period of approximately one month.

Data will be collected during normal operation at the respondents' facilities or work sites. Following quality-assurance and analysis, the data will be stored in OTAQ's Mobile Source Observation Database. The information collection will involve 517 respondents per year, requiring 99 hours per year to complete at an annual total cost to those respondents of $6,716. For the agency, the collection will require 4,455 hours per year at an annual total cost to the agency of $322,415.

Burden Statement: The annual public reporting and recordkeeping burden for this collection of information is estimated to average 0.19 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Construction and Manufacturing Establishments.

Estimated Number of Respondents: 517.

Frequency of Response: One-time event.

Estimated Total Annual Hour Burden: 99.

Estimated Total Annual Cost: $6,716, includes $0.0 annualized capital or O&M costs.

Changes in the Estimates: There is a decrease of 961 hours in the total estimated burden currently identified in the OMB Inventory of Approved ICR Burdens. This decrease is due to the fact that EPA proposes to contact fewer respondents than in the previous approved ICR, and that burden estimates for individual respondents have been adjusted downward, based on experience in the previous approval period.

Dated: November 20, 2007.
Sara Hisel-McCoy,
Director, Collection Strategies Division.

[FR Doc. E7-23114 Filed 11-27-07; 8:45 am]

BILLING CODE 6560-50-P